INTERNATIONAL TRADE COMMISSION

[Investigation No. 337-TA-1048]

Certain Intravascular Administration Sets and Components Thereof; Issuance of a Limited Exclusion Order Against the Respondent Found in Default; Termination of the Investigation

AGENCY: U.S. International Trade Commission.

ACTION: Notice.

SUMMARY: Notice is hereby given that the U.S. International Trade Commission has issued a limited exclusion order against certain intravascular administration sets and components thereof of Yangzhou WeiDeLi Trade Co., Ltd. The investigation is terminated.

FOR FURTHER INFORMATION CONTACT: Michael Liberman, Esq., Office of the General Counsel, U.S. International Trade Commission, 500 E Street SW., Washington, DC 20436, telephone (202) 205-3115. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at https://www.usitc.gov.

The public record for this investigation may be viewed on the Commission's electronic docket (EDIS) at https://edis.usitc.gov. Hearing-impaired persons are advised that information on this matter can be obtained by contacting the Commission's TDD terminal on (202) 205-1810.

SUPPLEMENTARY INFORMATION: The Commission instituted this investigation under section 337 of the Tariff Act of 1930, as amended, 19 U.S.C. 1337 (“section 337”), on April 12, 2017, based on a complaint filed by Curlin Medical Inc. of East Aurora, New York; ZEVEX, Inc. of Salt Lake City, Utah; and Moog Inc. of East Aurora, New York (collectively, “Complainants”) (82 FR 17690, April 12, 2017). The complaint alleges a violation of section 337 by reason of infringement of certain claims of U.S. Patent Nos. 6,164,921 (“the '921 patent”) and 6,371,732 (“the '732 patent”). The complaint named Yangzhou WeiDeLi Trade Co., Ltd. of Yangzhou, China (“Yangzhou” or “Respondent”) as the only respondent in this investigation. The Commission's Office of Unfair Import Investigations was named as a party.

On May 23, 2017, the ALJ ordered Yangzhou to show cause why it should not be found in default. See Order No. 5. No response to Order No. 5 was filed. On June 13, 2017, the ALJ issued an initial determination finding Yangzhou in default under Commission Rule 210.16(a)(1) (19 CFR 210.16(a)(l)). See Order No. 6.

The Commission requested briefing from the parties and the public on the issues of remedy, the public interest, and bonding. The Commission received timely responsive and reply submissions from Complainants and the Commission Investigative Attorney. The submissions agreed that the appropriate remedy is the entry of a limited exclusion order (“LEO”) against Yangzhou, that the public interest factors do not weigh against granting such a remedy, and that bonding should be set at 100 percent of the entered value of the infringing products.

The Commission has determined that the appropriate form of relief in this investigation is a LEO prohibiting the unlicensed entry of intravascular administration sets and components thereof that are covered by one or more of claims 1-3 of the '732 patent and claims 1-34 of the '921 patent and that are manufactured abroad by or on behalf of, or imported by or on behalf of, Respondent Yangzhou. The Commission has further determined that the public interest factors enumerated in section 337(g)(l) (19 U.S.C. 1337(g)(l)) do not preclude the issuance of the LEO. Finally, the Commission has determined that the bond for importation during the period of Presidential review shall be in the amount of 100 percent of the entered value of the imported subject articles of Respondent Yangzhou. The Commission's order was delivered to the President and the United States Trade Representative on the day of its issuance.

The authority for the Commission's determination is contained in section 337 of the Tariff Act of 1930, as amended, 19 U.S.C. 1337, and in part 210 of the Commission's Rules of Practice and Procedure, 19 CFR part 210.

By order of the Commission.
Issued: August 4, 2017.
Lisa R. Barton,
Secretary to the Commission.

[FR Doc. 2017-16842 Filed 8-9-17; 8:45 am]

BILLING CODE 7020-02-P